DEPARTMENT OF TRANSPORTATION

Federal Aviation Administration

Nineteenth Meeting: RTCA Special Committee 217—Aeronautical Databases Joint With EUROCAE WG-44—Aeronautical Databases

AGENCY: Federal Aviation Administration (FAA), U.S. Department of Transportation (DOT).

ACTION: Notice of RTCA Special Committee 217—Aeronautical Databases Joint with EUROCAE WG-44—Aeronautical Databases.

SUMMARY: The FAA is issuing this notice to advise the public of a meeting of RTCA Special Committee 217—Aeronautical Databases being held jointly with EUROCAE WG-44—Aeronautical Databases.

DATES: The meeting will be held March 17-21, 2014 from 9:00 a.m. to 5:00 p.m.

ADDRESSES: The meeting will be hosted by AIRBUS, Site de Saint Martin du Touch, 316 route de Bayonne, 1060 Toulouse Cedex 9 FRANCE.

FOR FURTHER INFORMATION CONTACT: Sophie Bousquet, SBousquet@rtca.org, 202-330-0663 or The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of RTCA Special Committee 217—Aeronautical Databases held jointly with EUROCAE WG-44—Aeronautical Databases. The agenda will include the following:

Monday, March 17, Opening Plenary

• Co-Chairmen's remarks and introductions

• Approve minutes from 18th meeting

• Review and approve meeting agenda for 19th meeting

• Review of joint WG-1/WG-2 Action Items

• ToR Update

• SC-216/SC-217 ISRA Update

• SWIM, Presentations and Discussion

• Continuation, “Data Terms Definitions” Review

Monday Thru Thursday, March 17-20—Working Group One (WG1)-DO-200A/ED-76

• Review of WG-1 Action Items Status

• Discussion and progress on ED76/DO200A update

• Process to develop a first mature draft update to ED76/DO200A

Working Group Two (WG2)-DO-272/DO-291

• WG-2 Action Item Status Review

• Sub-Group Status Reports (Content, Connectivity, Consistency, etc)

• Document Editor, Introduction and Status

• Review of Working Papers, Discussion Papers, Information Papers

• New Presentations, not related to WPs, DPs or IPs.

Closing Plenary Session (9:00 a.m. to Noon)

• Presentation of WG1 and WG2 conclusions

• Working arrangements for the remaining work

• Review of action items

• Next meetings, dates and locations

• Any other business and Adjourn

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on February 25, 2014.
Paige L. Williams,
Management Analyst, Business Operations Group, ANG-A12, Federal Aviation Administration.

[FR Doc. 2014-04635 Filed 2-28-14; 8:45 am]

BILLING CODE 4910-13-P